FEDERAL COMMUNICATIONS COMMISSION

[OMB 3060-0057]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before December 10, 2018. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-0057.

Title: Application for Equipment Authorization, FCC Form 731.

Form Number: FCC Form 731.

Type of Review: Revision of a currently approved collection.

Respondents: Business or other for-profit.

Number of Respondents and Responses: 11,291 respondents; 24,851 responses.

Estimated Time per Response: 8.11 hours (rounded up).

Frequency of Response: On occasion reporting requirement and third-party disclosure requirement.

Obligation to Respond: Required to obtain or retain benefits. Statutory authority for this information collection is contained in the 47 U.S.C. 154(i), 301, 302, 303(e), 303(f) and 303(r).

Total Annual Burden: 201,450 hours.

Total Annual Costs: $50,110,000.

Privacy Act Impact Assessment: The personally identifiable information (PII) in this information collection is covered by a Privacy Impact Assessment (PIA), Equipment Authorizations Records and Files Information System. It is posted at: https://www.fcc.gov/general/privacy-act-information#pia.

Nature and Extent of Confidentiality: Minimal exemption from the Freedom of Information Act (FOIA) under 5 U.S.C. 552(b)(4) and FCC rules under 47 CFR 0.457(d) is granted for trade secrets which may be submitted as attachments to the application FCC Form 731. No other assurances of confidentiality are provided to respondents.

Needs and Uses: The Commission will submit this revised information collection to the Office of Management and Budget (OMB) after this 60-day comment period to obtain the three-year clearance. There is an increase in respondents/burden cost estimates to reflect the increased complexity of devices subject to the Commission rules and costs associated with testing by third-party test firms and review by Telecommunications Certification Bodies. At the same time the changes in system and consolidation of different information collection projects a reduction of burden hours.

The Commission is seeking a revision of the Equipment Authorization information collection because of a redesign of the electronic system that collects the information (Equipment Authorization System) that streamlines the processes for filing the information associated with applications for equipment Certification pursuant to subpart J of part 2 of the Commission rules. The new electronic system also allows the Commission to consolidate and combine information that is currently authorized separately.¹ The system is designed to process all data collection electronically and will eliminate repetitive information collection within applications and will permit parties to reference previously submitted information at the time of equipment authorization application. The justification has been revised to represent the updated information collected from different parties, to note that previously submitted information can be referenced in individual applications and to project the updated costs associated with testing the more complex devices that predominate the current environment.

¹ The revised collection will include the information collection previously authorized under OMB 3060-0398 (Secs. 2.948, 2.949 except for Section 15.117(g)(2)).

The Commission rules require manufacturers of certain radio frequency (RF) equipment ² to obtain equipment authorization approval prior to marketing their equipment. Manufacturers may then market their RF equipment based on a showing of compliance with the applicable technical standards. The Commission typically adopts or modifies its technical standards in response to new technologies and in conjunction with changes to spectrum allocations. Under the equipment authorization rules there are two types of authorization processes: Certification and Suppliers Declaration of Conformity. The technical rules for the services in which the equipment is proposed to operate will specify which type of equipment authorization must be obtained before the equipment can be marketed. This information collection is specific for equipment subject to Certification. Appendix A of this statement provides the current list of rules that require Certification. Applications for Certification are submitted on FCC Form 731.³

² See Section 2.803 (47 CFR 2.803). The kinds of equipment that are being marketed include devices such as cellular telephones, tablets, remote control devices and scanning devices. However, the types of equipment that are manufactured may change in response to changing technologies and new spectrum allocations made by the Commission.

³ The information collection for Suppliers Declaration for conformity is authorized under OMB 3060-0636.

Accordingly, this information collection applies to RF equipment that:

(a) Is currently manufactured, or may be manufactured in the future, and

(b) operates under varying technical standards.

A party (e.g., an RF equipment manufacturer) seeking device Certification pursuant to § 2.911 must first obtain a grantee code. This is a one-time application, as the party may use the same grantee code in all of its subsequent equipment authorization applications. The party provides its contact information and the FCC Registration Number (FRN) to obtain the grantee code on the Grantee Code Application web page of FCC Form 731.⁴ A grantee code is assigned pursuant to § 2.926(c) of the Commission rules, and any information changes (as described in § 2.929) must be updated on the electronic system.

⁴ Information collection for FCC Registration Number is authorized under OMB 3060-0917.

A party seeking device Certification is required to submit its application to an FCC-recognized Telecommunications Certification Body (TCB). The FCC recognizes TCBs pursuant to §§ 2.960 and 2.962. TCBs must be designated by appropriate designating authorities in the United States or through a mutual recognition agreement (MRA) for foreign countries where an MRA is in place, pursuant to § 2.960. A TCB's designation is only recognized when it is supported by an accrediting organization meeting the requirements specified in § 2.960(c). Information about the TCBs including their scope of responsibilities pursuant to § 2.962, the TCB accrediting body (TCBA) and the TCB designating authority (TDA) is submitted by the parties on the specific web pages of FCC Form 731. The information about a TCB, TCBA or TDA is only collected when a new entity is added or there is a change in the scope of the entity responsibilities. The information is used for verification and validation when a TCB submits information indicating approval of the application for grant of Certification.

TCBs have flexibility in the format they use to collect information for application for equipment Certification—e.g. they may require applicants to submit the required information in a format that mirrors FCC Form 731, or they may opt to use a customized format. In all cases, the information required is governed by the procedural rules in Part 2 and a showing of compliance with the FCC technical standards for the specific type of equipment that is the subject of the application.

TCBs process application as follows:

(i) The TCB receives and reviews the information submitted by the party seeking Certification of an RF device.

(ii) The TCB enters the information on the appropriate FCC Form 731 web page. The TCB submits the final recommendation on the disposal of the application. If the recommendation is to authorize the grant, a grant of certification is published through the system. If the recommendation is not to approve, this decision is noted in the system.

All applications for Certification require the product to be tested for rules compliance by measurement test firms (TF) accredited by test firm accreditation bodies (TFAB) that have been recognized by the FCC (see §§ 2.948 and 2.949, respectively). TF and TFAB information is submitted through FCC Form 731 web pages for such information for verification and validation when the TCB reviews the application. The information collection for TF and TFAB is currently approved under OMB 3060-0398, but is being included in this revision.

An application for Certification must contain the following data, as is specified in § 2.1033:

• Information about the Grantee or their agents submitting the application on the Grantee's behalf.

• Information specific to the equipment including FCC Identifier, equipment class, technical specifications, etc.

• Attachments that demonstrate compliance with FCC rules may include any combination of the following based on the applicable FCC rule parts for the equipment for which authorization is requested:

○ Identification of equipment (§ 2.925);

○ Attestation statements that may be required for specific equipment;

○ External photos;

○ Block diagram of the device;

○ Schematics;

○ Test Report;

○ Test Setup Photos;

○ User's Manual;

○ Internal Photos;

○ Parts List/Tune Up Information;

○ RF Exposure Information;

○ Operational Description;

○ Cover Letters;

○ Software Defined Radio/Cognitive Radio Files;

○ Pre-approval guidance correspondence with TCB; and

○ Pre-approval inquiry correspondence with applicant

Applications for devices subject to multiple rule parts or to different requirements within the same rule part can be included in a single submission that provides whatever additional relevant information is necessary to show compliance with additional requirements. Applications subject to pre-approval guidance pursuant to § 2.964 must include the guidance correspondence.

Applications for devices operating under certain service rules (as specified in § 2.1033) must also include information specified in the rule parts.⁵ This documentation, as well as any other information that demonstrates conformance with FCC Rules, may range from 100 to 1,000 pages, and is essential to control potential interference to radio communications. The FCC may use this information to investigate complaints of harmful interference.

⁵ See 47 CFR Sections 2.1033(b)(9)-(14), 2.1033(c)(13)-(21) and 2.1033(d).

The decision on the grant of application is made on the Equipment Authorization System electronically pursuant to §§ 2.915, 2.917 or 2.919. A Certification is subject to the limitations under § 2.927 and the grantee is responsible for ongoing compliance including record retention pursuant to §§ 2.931, 2.937 and 2.938.

The grantee is responsible to ensure that the device continues to comply with the rules. Device changes will require a new application for Certification pursuant to §§ 2.932 and 2.933, unless they can be classified as permissive changes under the rules for Class II or III permissive changes, as specified in § 2.1043(b). For a permissive change, the grantee is required to file supplementary information explaining the changes and must provide updated test information to a TCB for review. The TCB will then submit the data on the FCC Form 731 web pages for permissive changes. The only data required is that which supports the compliance of the changed functions. For changes which are considered Class I under §§ 2.1043(b) or 2.924 no further submissions are necessary although the applicant is responsible for keeping records of the changes.

Information on the procedures for equipment authorization applications can be obtained from the internet at: https://www.fcc.gov/engineering-technology/laboratory-division/general/equipment-authorization.

Appendix A

Rule Parts Referencing Equipment Certification
Rule sections (47 CFR) | Reference
2.911, 2.1033 | Applications.
11.34 | EAS Equipment acceptability for filing.
15.201 | Equipment Authorization Requirements.
18.203 | Equipment Authorization.
20.19(b) | HAC Requirements.
20.21(e)(2) | Signal Boosters.
22.377 | Certification of transmitters.
24.51 | Equipment Authorization (including 24.52 RF Hazards).
25.129 | Equipment Authorization for portable earth-station transceivers.
27.51 | Equipment Authorization (including 27.52 RF Safety).
30.201 | Equipment Authorization (30.201(c) refers to verification).
74.451 | Certification of equipment—remote pickup.
74.750 | Low Power TV (type notified).
74.851 | Certification of equipment—LPAS.
80.203 | Authorization of transmitters—maritime services (special manual or other type approval requirements).
87.147 | Authorization of equipment—Aviation.
90.203 | Certification required—Private land mobile radio.
95.335 | Operation of non-certified transmitters prohibited—Personal Radio Service.
95.361 | Transmitter Certification—Personal Radio Service.
95.561 | FRS transmitter certification.
95.761 | RCRS transmitter certification.
95.961 | CBRS transmitter certification.
95.1761 | GMRS transmitter certification.
95.1951 | Certification—200 MHz.
95.2161 | LPRS transmitter certification.
95.2361 | WMTS transmitter certification.
95.2561 | MedRadio transmitter certification.
95.2761 | MURS transmitter certification.
95.2961 | PLB and MSLD transmitter certification.
95.3161 | OBU transmitter certification.
95.3361 | Certification—76-81GHz Radar service.
96.49 | Equipment Authorization CBRS.
97.315 | Certification of external RF power amplifiers—Amateur Radio.

Federal Communications Commission.
Marlene Dortch,
Secretary, Office of the Secretary.

[FR Doc. 2018-21960 Filed 10-9-18; 8:45 am]

BILLING CODE 6712-01-P